FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicant:

LCL Agencies (India) Private Limited dba LCL Lines, 310 Hillside Avenue, South Plane Field, NJ 07080. Officers: Unnikrishnan Nair, President (Qualifying Individual), Ravindranath K. Menon, Director.

Non-Vessel Operating Common Carrier and Ocean Freight Forwarder Transportation Intermediary Applicants:

Monumental Shipping & Moving Corp., 103-10 Astoria Blvd., East Elmhurst, NY 11369. Officer: Jose L. Jorge, President (Qualifying Individual).

Titan International, Inc., 3812 Springhill Avenue, Mobile, AL 36608. Officer: Samford T. Myers, President (Qualifying Individual).

Ocean Freight Forwarder—Ocean Transportation Intermediary Applicants:

Affordable Shipping Services, L.L.C., 10641 Harwin Drive, Suite 502, Houston, TX 77036. Officers: Benjamin E. Mbonu, Manager of Logistics (Qualifying Individual), Nicholas O. Ezenwa, Vice President.

Aras Forwarding, 10805 180th Avenue East, Bonney Lake, WA 98390. Sara Barnes, Sole Proprietor.

Dated: July 30, 2004.
Bryant L. VanBrakle,
Secretary.

[FR Doc. 04-17808 Filed 8-3-04; 8:45 am]

BILLING CODE 6730-01-P